DEPARTMENT OF DEFENSE

Office of the Secretary

Reserve Forces Policy Board (RFPB); Notice of Federal Advisory Committee Meeting

AGENCY: Office of the Secretary of Defense, Reserve Forces Policy Board, DoD.

ACTION: Notice of Federal Advisory Committee Meeting.

SUMMARY: The Department of Defense is publishing this notice to announce that the following Federal Advisory Committee meeting of the Reserve Forces Policy Board will take place.

DATES: Wednesday, March 5, 2014 from 8:15 a.m. to 4:20 p.m.

ADDRESSES: The address is the Pentagon, Room 3E863, Arlington, VA. An escort may be required as discussed in the meeting accessibility section.

FOR FURTHER INFORMATION CONTACT: CAPT Steven Knight, Designated Federal Officer, (703) 681-0608 (Voice), (703) 681-0002 (Facsimile), Email—steven.p.knight.mil@mail.mil. Mailing address is Reserve Forces Policy Board, 5113 Leesburg Pike, Suite 601, Falls Church, VA 22041. Web site: http://ra.defense.gov/rfpb/. The most up-to-date changes to the meeting can be found on the RFPB Web site.

SUPPLEMENTARY INFORMATION: This meeting is being held under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review and evaluate information related to strategies, policies, and practices designed to improve and enhance the capabilities, efficiency, and effectiveness of the Reserve Components.

Agenda: The RFPB will hold a meeting from 8:15 a.m. until 4:20 p.m.

The portion of the meeting from 8:15 a.m. to 1:00 p.m. will be closed to the public. The closed portion of the meeting from 8:15 a.m. until 1:00 p.m. will consist of remarks to the RFPB from the Director, CAPE; the Deputy Assistant Secretary of Defense for Reserve Affairs (Resources); the Secretary of the Air Force; and the Commander, U.S. Northern Command; each of whom will likely address future strategies for use of the Reserve Components, highlighting issues impacting reserve organizations, the right balance of Active and Reserve Component forces, the cost to maintain a strong Reserve Component, their thoughts on the increased emphasis placed on cyber security and the logical mission fit for Reserve Component members. The Cyber Policy Task Group plans to provide an update to the RFPB on its current findings concerning the Services' Active and Reserve force structure, force structure management and how the cyber domain Rules of Engagement could affect the Reserve Components. The open portion of the meeting, from 1:10 p.m. to 4:20 p.m., will consist of remarks from Major General Ranald Munro (UK), Deputy Commander Land Forces (Reserves), British Army, and a representative from the National Commission on the Structure of the Air Force. Major General Ranald Munro (UK) from the United Kingdom has been invited to provide remarks on the reforms being made to the British Army. A representative from the National Commission on the Structure of the Air Force (“the Commission”) has been invited to provide his or her personal observations and opinions on the Commission's work and its Final Report. The three RFPB subcommittees will also provide updates on their past recommendations to the Secretary of Defense. The Subcommittee on the Operational Reserve plans to provide an update to the RFPB on medical readiness and other operational reserve issues. The Subcommittee on the Homeland plans to provide an update to the RFPB on the Presidential Nominating Convention funding recommendation and other Homeland issues being researched as possible RFPB matters of interest. The Subcommittee on Personnel plans to provide an update to the RFPB on Survivor Benefits Program & Duty Status Recommendations to the Secretary of Defense and discuss findings on Yellow Ribbon Program & other Total Force Policies issues.

Meeting Accessibility: Pursuant to 5 U.S.C. 552b, as amended and 41 CFR 102-3.140 through 102-3.165, and subject to the availability of space, the meeting is open to the public from 1:10 p.m. to 4:20 p.m. Seating is based on a first-come, first-served basis. All members of the public who wish to attend the public meeting must contact Captain Steven Knight, the Designated Federal Officer, not later than 12:00 p.m. on Thursday, February 27, 2014, as listed in the FOR FURTHER INFORMATION CONTACT section to make arrangements for a Pentagon escort, if necessary. Public attendees requiring escort should arrive at the Pentagon Metro Entrance with sufficient time to complete security screening no later than 12:15 p.m. on March 5. To complete the security screening, please be prepared to present two forms of identification. One must be a picture identification card. In accordance with section 10(d) of the FACA, 5 U.S.C. 552b, and 41 CFR 102-3.155, the Department of Defense has determined that the portion of this meeting scheduled to occur from 8:15 a.m. to 1:00 p.m. will be closed to the public. Specifically, the Acting Under Secretary of Defense (Personnel and Readiness), in coordination with the DoD FACA Attorney, has determined in writing that this portion of the meeting will be closed to the public, because it is likely to disclose matters covered by 5 U.S.C. 552b(c)(1).

Written Statements: Pursuant to 41 CFR 102-3.105(j) and 102-3.140 and section 10(a)(3) of the FACA, interested persons may submit written statements to the RFPB at any time. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the Board's Web site.

Due to difficulties beyond the control of the designated federal officer the meeting announcement requirements of 41 CFR 102-3.150(a) pertaining to the scheduled meeting of the Reserve Forces Policy Board for March 5, 2014, were not met. Accordingly, the Advisory Committee Management Officer for the Department of Defense, pursuant to 41 CFR 102-3.150(b), waives the 15-calendar day notification requirement.

Dated: February 20, 2014.
Aaron Siegel,
Alternate OSD Federal Register Liaison Officer, Department of Defense.

[FR Doc. 2014-04028 Filed 2-24-14; 8:45 am]

BILLING CODE 5001-06-P